ENVIRONMENTAL PROTECTION AGENCY

[EPA-HQ-OPA-2007-0584; FRL-11248-01-OMS]

Agency Information Collection Activities; Submission to the Office of Management and Budget for Review and Approval; Comment Request; Spill Prevention, Control, and Countermeasure Plans (Renewal)

AGENCY: Environmental Protection Agency (EPA).

ACTION: Notice.

SUMMARY: The Environmental Protection Agency (EPA) has submitted an information collection request (ICR), “Spill Prevention, Control, and Countermeasure Plans (Renewal)” (EPA ICR Number 0328.19, OMB Control Number 2050-0021) to the Office of Management and Budget (OMB) for review and approval in accordance with the Paperwork Reduction Act. This is a proposed extension of the ICR, which is currently approved through July 31, 2023. Public comments were previously requested via the Federal Register on November 4, 2022, during a 60-day comment period. This notice allows for an additional 30 days for public comments.

DATES: Additional comments may be submitted on or before August 31, 2023.

ADDRESSES: Submit your comments, referencing Docket ID Number EPA-HQ-OPA-2007-0584, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: This is a proposed extension of the ICR, which is currently approved through July 31, 2023. An agency may not conduct or sponsor and a person is not required to respond to a collection of information unless it displays a currently valid OMB control number.

Public comments were previously requested via the Federal Register on November 4, 2022 during a 60-day comment period (87 FR 66695). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The authority for EPA's oil pollution prevention requirements is derived from section 311(j)(1)(C) of the Clean Water Act, as amended by the Oil Pollution Act of 1990. EPA's regulation is codified at 40 CFR part 112. Although the owner or operator is the primary data user, EPA may also require the owner or operator to submit data to the Agency in certain situations to ensure facilities comply with the SPCC regulation and to help allocate response resources. State and local governments may use the data, which are not generally available elsewhere and can assist local emergency preparedness planning efforts.

Form numbers: None.

Respondents/affected entities: Owners or operators of facilities required to have Spill Prevention, Control, and Countermeasure (SPCC) plans under the Oil Pollution Prevention regulation (40 CFR part 112) and which, because of their location, could reasonably be expected to cause substantial harm to the environment.

Respondent's obligation to respond: Mandatory, pursuant to 40 CFR 112.3(e).

Estimated number of respondents: 549,362 (total).

Frequency of response: Facilities must prepare and implement an SPCC Plan before beginning operations and review, evaluate, and update the SPCC Plan every five years. In the event of certain discharges of oil into navigable waters, a facility owner or operator must submit certain information to the Regional Administrator within 60 days.

Total estimated burden: 6,625,194 hours (per year). Burden is defined at 5 CFR 1320.03(b).

Total estimated cost: $893,604,697 (per year), which includes $208,724,033 annualized capital or operation & maintenance (O&M) costs.

Changes in the estimates: There is an increase of 315,671 hours in the total estimated respondent burden compared with the ICR currently approved by OMB. This increase is due to changes in the universe of regulated facilities after accounting for changes in the numbers and types of existing and newly regulated facilities in the new ICR period, as well as small adjustments in unit burden estimates for activities associated with SPCC Plan amendments. While the universe of regulated facilities decreases by less than one percent during the new ICR period; (549,362 vs. 549,785 respondents), a slightly higher proportion of this universe consists of regulated facilities with a relatively greater unit burden.

Courtney Kerwin,
Director, Regulatory Support Division.

[FR Doc. 2023-16213 Filed 7-31-23; 8:45 am]

BILLING CODE 6560-50-P